DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before June 28, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Numbers: M-2010-020-C.

Petitioner: The Wolf Run Mining Company, Route 3, Box 146, Philippi, West Virginia 26416.

Mine: Sentinel Mine, MSHA I.D. No. 46-04168, located in Barbour County, West Virginia.

Regulation Affected: 30 CFR 75.1909(b)(6) (Non-permissible diesel-powered equipment; design and performance requirements).

Modification Request: The petitioner requests a modification of the existing standard to permit the Getman Roadbuilder, Serial Number 379514 to be operated as it was originally designed, without front brakes. The petitioner states that: (1) The rule does not address equipment with more than four wheels, specifically the Getman Roadbuilder, Model RDG-1504S, with six wheels; (2) the machine has dual brake systems on the four rear wheels, and is designed to prevent loss of braking due to a single component failure; (3) seventy-four percent (74%) of the machines total weight is over the four (4) rear wheels; and (4) with the weight distribution, brakes on the rear of the machine are sufficient to safely stop the machine. The petitioner further states that: (1) Training will be provided to the grader operators to lower the moldboard to provide additional stopping capability in emergency situations and recognize the appropriate speeds to use on different roadway conditions; and (2) limit the maximum speed to 10 miles per hour. The petitioner asserts that the proposed alternative method will provide no less than the same measure of protection at the Sentinel Mine than would be provided with compliance with the existing standard.

Docket Numbers: M-2010-023-C.

Petitioner: Rosebud Mining Company, 301 Market Street, Kittanning, Pennsylvania 16201.

Mines: Tracy Lynne Mine, MSHA I.D. No. 36-08603, Clementine Mine, MSHA I.D. No. 36-08862, both located in Armstrong County, Pennsylvania; Penfield Mine, MSHA I.D. No. 36-09355, located in Clearfield County, Pennsylvania; Mine 78, MSHA I.D. No. 36-09371, located in Somerset County, Pennsylvania; and Heilwood Mine, MSHA I.D. No. 36-09407, Lowry Mine, MSHA I.D. No. 36-09287, Toms Run Mine, MSHA I.D. No. 36-08525, and Cherry Tree Mine, MSHA I.D. No. 36-09224, all located in Indiana County, Pennsylvania.

Regulation Affected: 30 CFR 75.503 (Permissible electric face equipment; maintenance) and 30 CFR 18.35 (Portable trailing cables and cords).

Modification Request: The petitioner requests a modification of the existing standard to permit the maximum length of the 480-volt trailing cables for supplying power to the Fletcher Roof Ranger II Twin Boom Roof Bolters to be 950 feet. The petitioner states that: (1) The trailing cables for the 480-volt Fletcher Roof Ranger II Roof Bolter will not be smaller than No. 2 American Wire Gauge (AWG) cable; (2) all circuit breakers used to protect the No. 2 AWG trailing cables exceeding 700 feet in length will have instantaneous trip units calibrated to trip at 500 amperes. The trip setting of these circuit breakers will be sealed to insure that the settings on the breakers cannot be changed, and will have permanent, legible labels. Each label will identify the circuit breaker as being suitable for protecting the No. 2 AWG cables; (3) replacement circuit breakers and/or instantaneous trip units, used to protect the No. 2 AWG trailing cables will be calibrated to trip at 500 amperes, and the setting to be sealed; (4) all components that provide short-circuit protection will have a sufficient interruption rating in accordance with the maximum calculated fault current available; (5) the No. 2 AWG cables and the circuit breakers will be examined in accordance with all 30 CFR provisions during each production day; (6) permanent warning labels will be installed and maintained on the load center identifying the location of each short-circuit protective device. These labels will warn miners not to change or alter the settings of these devices; (7) the affected trailing cables will be de-energized and repaired if the cables are damaged in any way during the shift; (8) the alternative method will not be implemented until after all miners who have been designated to operate the Roof Ranger II, or any other person designated to examine the trailing cables or trip settings on the circuit breakers have received proper training as to the performance of their duties; and (9) within sixty (60) days after the Proposed Decision and Order becomes final, proposed revisions for its approved 30 CFR part 48 training plan will be submitted to the District Manager. The proposed revisions will specify task training for miners designated to examine the trailing cables for safe operating conditions and verify that the short-circuit settings of the circuit interrupting device(s) that protect the affecting trailing cables do not exceed the specified setting(s) in Item No. 3. Training will include the following elements: (a) The hazards of setting the short-circuit interrupting device(s) too high to adequately protect the trailing cables; (b) how to verify that the interrupting device(s) protecting the trailing cable(s) are properly set and maintained; (c) mining methods and operating procedures that will protect the trailing cables against damage; and (d) the proper procedure for examining the trailing cable to insure that the cable(s) are in safe operating condition by a visual inspection of the entire cable, observing the insulation, the integrity of the splices, nicks and abrasions. The petitioner states that the procedures as specified in 30 CFR 48.3 for approval of proposed revisions to approved training plans will apply. The petitioner asserts that the proposed alternative method will at all times guarantee no less than the same measure of protection afforded the miners by such standard with no diminution of safety to miners.

Dated: May 21, 2010.
Patricia W. Silvey,
Director, Office of Standards, Regulations and Variances.

[FR Doc. 2010-12691 Filed 5-26-10; 8:45 am]

BILLING CODE 4510-43-P